FEDERAL COMMUNICATIONS COMMISSION

47 CFR Part 73

[DA 02-2367, MB Docket No. 02-153, RM-1-454]

Television Broadcast Service; New Iberia, LA

AGENCY: Federal Communications Commission.

ACTION: Final rule.

SUMMARY: The Commission, at the request of Iberia Communications, LLC, substitutes channel 50 for channel 53-. See 67 FR 47757, July 22, 2002. TV channel 50 can be allotted to New Iberia, Louisiana, in compliance with the principle community coverage requirements of Section 73.610 at coordinates 29-55-12 N. and 91-46-07 W. With this action, this proceeding is terminated.

DATES: Effective November 12, 2002.

FOR FURTHER INFORMATION CONTACT: Pam Blumenthal, Media Bureau, (202) 418-1600.

SUPPLEMENTARY INFORMATION: This is a synopsis of the Commission's Report and Order, MB Docket No. 02-153, adopted September 23, 2002, and released September 27, 2002. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Louisiana is amended by removing TV channel 53 and adding TV channel 50 at New Iberia.

Federal Communications Commission.
Barbara A. Kreisman,
Chief, Video Division, Media Bureau.

[FR Doc. 02-25350 Filed 10-4-02; 8:45 am]

BILLING CODE 6712-01-P